COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Information and Regulatory Affairs (OIRA), of the Office of Management and Budget (OMB), for review and comment. The ICR describes the nature of the information collection and its expected costs and burden.

DATES: Comments must be submitted on or before January 15, 2025.

ADDRESSES: Written comments and recommendations for the proposed information collection should be submitted within 30 days of this notice's publication to OIRA, at https://www.reginfo.gov/public/do/PRAMain. Please find this particular information collection by selecting “Currently under 30-day Review—Open for Public Comments” or by using the website's search function. Comments can be entered electronically by clicking on the “comment” button next to the information collection on the “OIRA Information Collections Under Review” page, or the “View ICR—Agency Submission” page. A copy of the supporting statement for the collection of information discussed herein may be obtained by visiting https://www.reginfo.gov/public/do/PRAMain.

In addition to the submission of comments to https://Reginfo.gov as indicated above, a copy of all comments submitted to OIRA may also be submitted to the Commodity Futures Trading Commission (the “Commission” or “CFTC”) by clicking on the “Submit Comment” box next to the descriptive entry for OMB Control No. 3038-0086, at https://comments.cftc.gov/FederalRegister/PublicInfo.aspx.

Or by either of the following methods:

• Mail: Christopher Kirkpatrick, Secretary of the Commission, Commodity Futures Trading Commission, Three Lafayette Centre, 1155 21st Street NW, Washington, DC 20581.

• Hand Delivery/Courier: Same as Mail above.

All comments must be submitted in English, or if not, accompanied by an English translation. Comments submitted to the Commission should include only information that you wish to make available publicly. If you wish the Commission to consider information that you believe is exempt from disclosure under the Freedom of Information Act, a petition for confidential treatment of the exempt information may be submitted according to the procedures established in § 145.9 of the Commission's regulations.¹ The Commission reserves the right, but shall have no obligation, to review, prescreen, filter, redact, refuse or remove any or all of your submission from https://www.cftc.gov that it may deem to be inappropriate for publication, such as obscene language. All submissions that have been redacted or removed that contain comments on the merits of the ICR will be retained in the public comment file and will be considered as required under the Administrative Procedure Act and other applicable laws, and may be accessible under the Freedom of Information Act.

¹ 17 CFR 145.9.

FOR FURTHER INFORMATION CONTACT: Jason Smith, Assistant Chief Counsel, Division of Market Oversight, Commodity Futures Trading Commission, (202) 418-5698; email: jsmith@cftc.gov, and refer to OMB Control No. 3038-0086.

SUPPLEMENTARY INFORMATION:

Title: Swap Data Access Provisions of Part 49 and Certain Other Matters (OMB Control No. 3038-0086). This is a request for extension of a currently approved information collection.

Abstract: Section 728 of the Dodd-Frank Wall Street Reform and Consumer Protection Act, Public Law 111-203, 124 Stat. 1376 (2010), specifically requires the CFTC to establish certain standards for the governance, registration, and statutory duties applicable to SDRs. The CFTC established these standards in part 49 of the CFTC's regulations.

An agency may not conduct or sponsor, and a person is not required to respond to, a collection of information unless it displays a currently valid OMB control number. On October 4, 2024, the Commission published in the Federal Register notice of the proposed extension of this information collection and provided 60 days for public comment on the proposed extension, 89 FR 80897 (“60-Day Notice”). No responsive comments have been received.

Burden Statement: The Commission is revising its estimate of the burden for this collection. The respondent burden for this collection is estimated to be as follows:

Estimated Number of Respondents: 4.

Estimated Average Burden Hours Per Respondent: 19,679.5.

Estimated Total Annual Burden Hours: 78,718.

Frequency of Collection: Annually; On occasion.

There are no start-up costs associated with this collection and an average of $2 million in ongoing operating costs per respondent.

(Authority: 44 U.S.C. 3501 et seq.)

Dated: December 10, 2024.
Robert Sidman,
Deputy Secretary of the Commission.

[FR Doc. 2024-29457 Filed 12-13-24; 8:45 am]

BILLING CODE 6351-01-P